DEPARTMENT OF ENERGY

Federal Energy Regulatory Commission

Combined Notice of Filings #1

Take notice that the Commission received the following electric corporate filings:

Docket Numbers: EC16-103-000.

Applicants: Copper Mountain Solar 4, LLC, Mesquite Solar 2, LLC, Mesquite Solar 3, LLC.

Description: Errata to April 15, 2016 Application for Authorization of Transaction Pursuant to FPA Section 203 of Copper Mountain Solar 4, LLC, et al.

Filed Date: 5/6/16.

Accession Number: 20160506-5229.

Comments Due: 5 p.m. ET 5/16/16.

Take notice that the Commission received the following exempt wholesale generator filings:

Docket Numbers: EG16-93-000.

Applicants: Rio Bravo Solar I, LLC.

Description: Notice of Self-Certification of Exempt Wholesale Generator Status of Rio Bravo Solar I, LLC.

Filed Date: 5/6/16.

Accession Number: 20160506-5210.

Comments Due: 5 p.m. ET 5/27/16.

Docket Numbers: EG16-94-000.

Applicants: Rio Bravo Solar II, LLC.

Description: Notice of Self-Certification of Exempt Wholesale Generator Status of Rio Bravo Solar II, LLC.

Filed Date: 5/6/16.

Accession Number: 20160506-5213.

Comments Due: 5 p.m. ET 5/27/16.

Docket Numbers: EG16-95-000.

Applicants: Wildwood Solar II, LLC.

Description: Notice of Self-Certification of Exempt Wholesale Generator Status of Wildwood Solar II, LLC.

Filed Date: 5/6/16.

Accession Number: 20160506-5214.

Comments Due: 5 p.m. ET 5/27/16.

Docket Numbers: EG16-96-000.

Applicants: Marshall Solar, LLC.

Description: Notice of Self-Certification of Exempt Wholesale Generator Status of Marshall Solar, LLC.

Filed Date: 5/9/16.

Accession Number: 20160509-5058.

Comments Due: 5 p.m. ET 5/31/16.

Take notice that the Commission received the following electric rate filings:

Docket Numbers: ER10-203-000; ER14-268-000.

Applicants: Southern Company Services, Inc., Alabama Power Company.

Description: Notice of Delay Until June 1, 2016 of True-Up Filings under Southern Companies' OATT and Request for Waiver of Southern Company Services, Inc., et al.

Filed Date: 4/29/16.

Accession Number: 20160429-5577.

Comments Due: 5 p.m. ET 5/16/16.

Docket Numbers: ER13-432-004.

Applicants: Entergy Services, Inc.

Description: Errata to May 3, 2016 Compliance Filing of Entergy Services, Inc. Pursuant to Opinion No. 547.

Filed Date: 5/6/16.

Accession Number: 20160506-5231.

Comments Due: 5 p.m. ET 5/27/16.

Docket Numbers: ER16-1371-001.

Applicants: 63SU 8ME LLC.

Description: Tariff Amendment: Amendment to 1 to be effective 6/7/2016.

Filed Date: 5/6/16.

Accession Number: 20160506-5183.

Comments Due: 5 p.m. ET 5/27/16.

Docket Numbers: ER16-1603-000.

Applicants: San Diego Gas & Electric Company.

Description: Filing Withdrawal: Withdrawal of Depreciation Rate Filing under ER16-1603 to be effective N/A.

Filed Date: 5/6/16.

Accession Number: 20160506-5150.

Comments Due: 5 p.m. ET 5/27/16.

Docket Numbers: ER16-1639-000.

Applicants: Arizona Public Service Company.

Description: § 205(d) Rate Filing: Rate Schedule No. 285 to be effective 7/7/2016.

Filed Date: 5/6/16.

Accession Number: 20160506-5184.

Comments Due: 5 p.m. ET 5/27/16.

Docket Numbers: ER16-1640-000.

Applicants: PJM Interconnection, L.L.C.

Description: Tariff Cancellation: Notice of Cancellation of WMPA SA No. 3417, Queue No. W3-159 to be effective 5/5/2016.

Filed Date: 5/9/16.

Accession Number: 20160509-5062.

Comments Due: 5 p.m. ET 5/31/16.

Docket Numbers: ER16-1641-000.

Applicants: Midcontinent Independent System Operator, Inc.

Description: § 205(d) Rate Filing: 2016-05-09_SA 2916 Prairie Power-Prairie Power 1st Rev GIA (J291) to be effective 5/10/2016.

Filed Date: 5/9/16.

Accession Number: 20160509-5081.

Comments Due: 5 p.m. ET 5/31/16.

Docket Numbers: ER16-1642-000.

Applicants: San Diego Gas & Electric Company.

Description: Initial rate filing: Certificate of Concurrence in Large Generator Interconnection Agreement to be effective 6/1/2016.

Filed Date: 5/9/16.

Accession Number: 20160509-5084.

Comments Due: 5 p.m. ET 5/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2016.
Nathaniel J. Davis, Sr.,
Deputy Secretary.

[FR Doc. 2016-11529 Filed 5-13-16; 8:45 am]

BILLING CODE 6717-01-P